DEPARTMENT OF COMMERCE

Submission for OMB Review: Comment Request

DOC has submitted to the Office of Management and Budget (OMB) for clearance of the following proposal for collection of information under the provisions of the Paperwork Reduction Act of 1995, Pub. L. 104-13.

Bureau: International Trade Administration.

Title: Marketing Data Form.

Agency Form Number: ITA-466P.

OMB Number: 0625-0047.

Type of Request: Regular Submission.

Burden: 3,000 hours.

Number of Respondents: 4,000.

Avg. Hours Per Response: 45 minutes.

Needs and Uses: There is a need to have proper information about companies participating in U.S. exhibitions, trade missions and Matchmaker Trade Delegations and their products in order to publicize and promote participation in these trade promotion events. The Marketing Data Form (MDF) provides information necessary to produce export promotion brochures and directories, to arrange appointments and to prospect calls on behalf of the participants with key prospective buyers, agents, distributors or government officials. Specific information is also requested relating to the participants' objectives regarding agents, distributors, joint venture or licensing partners, and any special requirements for prospective agents, for example, physical facilities, technical capabilities, financial strength, staff, representation of complementary lines, etc.

Affected Public: Business or other for profit, not-for-profit institutions

Frequency: On occasion.

Respondent's Obligation: Required to obtain or retain a benefit, voluntary.

OMB Desk Officer: David Rostker, (202) 395-7340.

Copies of the above information collection can be obtained by calling or writing Diana Hynek, Departmental Paperwork Clearance Officer, (202) 482-0266, Department of Commerce, Room 6612, 14th & Constitution Avenue, NW., Washington, DC 20230, or via the Internet at dHynek@doc.gov.

Written comments and recommendations for the proposed information collection should be sent to David Rostker, OMB Desk Officer, David_Rostker@omb.eop.gov or fax (202) 395-7285, within 30 days of the publication of this notice in the Federal Register.

Dated: May 26, 2005.
Madeleine Clayton,
Management Analyst, Office of the Chief Information Officer.

[FR Doc. 05-10893 Filed 5-31-05; 8:45 am]

BILLING CODE 3510-FP-P